DEPARTMENT OF AGRICULTURE

Agricultural Marketing Service

7 CFR Part 175

[Doc. No. AMS-LP-24-0012]

RIN 0581-AE29

Greenhouse Gas Technical Assistance Provider and Third-Party Verifier Program

AGENCY: Agricultural Marketing Service, USDA.

ACTION: Notification; request for information.

SUMMARY: The U.S. Department of Agriculture (USDA) is seeking public input to support the preparation of proposed regulations intended to implement the Greenhouse Gas Technical Assistance Provider and Third-Party Verifier Program (the Program), particularly related to the criteria used to evaluate protocols and identification of specific protocols that should be considered for inclusion in the Program. The purpose of the Program is to facilitate farmer, rancher, and private forest landowner participation in voluntary carbon markets. This request for information provides an important step toward developing a meaningful Program consistent with the Growing Climate Solutions Act (GCSA).

DATES: Comments must be received by June 28, 2024 to be assured of consideration.

ADDRESSES: Interested persons are invited to submit comments concerning this document by either of the following methods:

• Federal Rulemaking Portal: Go to https://www.regulations.gov and enter “AMS-LP-24-0012” in the Search field. Select the Documents tab, then select the `Comment' button in the list of documents. Comments should reference the document number and the date and page number of this issue of the Federal Register.

• Email: Please submit any email responses to Sasha.Strohm@usda.gov.

All comments submitted in response to this document will be included in the record, will be made available to the public, and can be viewed at: https://www.regulations.gov. Please be advised that the identity of the individuals or entities submitting the comments will be made available to the public on the internet at the address provided above.

FOR FURTHER INFORMATION CONTACT: Sasha Strohm, Program Manager, at 202-720-5705, or via email at Sasha.Strohm@usda.gov.

SUPPLEMENTARY INFORMATION:

I. Background

USDA is preparing to establish the Greenhouse Gas Technical Assistance Provider and Third-Party Verifier Program (the Program), authorized under the provisions of the Growing Climate Solutions Act (GCSA), which was signed into law on December 29, 2022, as part of the Consolidated Appropriations Act of 2023 (Pub. L. 117-328, div. HH, title I, section 201). The purpose of the Program is to facilitate farmer, rancher, and private forest landowner participation in voluntary carbon markets.

In establishing the Program, USDA will (1) publish a list of, and documents relating to, widely accepted protocols that are designed to ensure consistency, reliability, effectiveness, efficiency, and transparency of voluntary environmental credit markets; (2) publish descriptions of widely accepted qualifications possessed by covered entities that provide technical assistance to farmers, ranchers, and private forest landowners; (3) publish a list of qualified technical assistance providers and third-party verifiers; and (4) provide information to assist farmers, ranchers, and private forest landowners in accessing voluntary environmental credit markets.

Prior to publication of this request for information (RFI) and as directed by the GCSA, USDA completed an analysis of voluntary carbon markets and published a report, “A General Assessment of the Role of Agriculture and Forestry in U.S. Carbon Markets”.¹ The report concluded that voluntary carbon markets offer a promising tool to achieve greenhouse gas (GHG) reductions from the agricultural and forestry sectors. However, farmers, ranchers, and private forest landowners face barriers to accessing voluntary carbon markets due to market confusion, high costs, and project requirements. A full discussion on how the Program will address barriers and facilitate producer participation in voluntary carbon markets is available in the report, “USDA Intent to Establish the Greenhouse Gas Technical Assistance Provider and Third-Party Verifier Program”.²

¹ https://www.usda.gov/sites/default/files/documents/USDA-General-Assessment-of-the-Role-of-Agriculture-and-Forestry-in-US-Carbon-Markets.pdf.

² https://www.usda.gov/sites/default/files/documents/GCSA-JustificationReport.pdf.

This RFI seeks public input on options for implementing the Program. Specifically, USDA seeks input on (1) options for interpreting and applying criteria used to evaluate protocols that are designed to ensure consistency, reliability, effectiveness, efficiency, and transparency; (2) information pertaining to specific protocols to be evaluated for inclusion in the program; (3) qualifications needed by covered entities who serve as technical assistance providers to farmers, ranchers, or private forest landowners; and (4) qualifications needed by covered entities who serve as third-parties who conduct verification of processes described in protocols for voluntary environmental credit markets. The information obtained will be considered in determining the next step, which could include a proposed rule.

II. Request for Information

Commenters should refer to specific question numbers in their responses.

Question 1: How should USDA define the terms “consistency,” “reliability,” “effectiveness,” “efficiency,” and “transparency” (see 7 U.S.C. 6712(c)(1)(A)) for use in protocol evaluation?

Question 2: What metrics or standards should USDA use to evaluate a protocol's alignment with each of the five criteria to be defined in Question 1? What should USDA consider as minimum criteria for a protocol to qualify for listing under the Program?

Question 3: In general, after a new protocol is published, how long does it take for a project to use the protocol and be issued credits (i.e., what is the lag time between protocol publication and first credit generation)?

Question 4: Which protocol(s) for generating voluntary carbon credits from agriculture and forestry projects should USDA evaluate for listing through the Greenhouse Gas Technical Assistance Provider and Third-Party Verifier Program?

Question 5: For any protocol(s) identified under Question 4:

(a) Has the protocol resulted in the generation and sale of credits? If yes, when was the most recent year and volume of credit generation and retirement? If not, is there evidence that the protocol will generate credits (e.g., projects are under development)?

(b) What is the average size (in acres, hectares, or another relevant unit) of projects using the protocol?

(c) What is the average credit issuance per unit land area (acre or hectare) for projects using the protocol, inclusive of credits that are contributed to a buffer pool?

(d) Does the protocol reduce the cost, paperwork, and/or reporting burden for smaller, diversified, or underserved farmers, ranchers, or private forest landowners, while maintaining reliability of offsets? If yes, how?

(e) Does the protocol allow multiple entities to aggregate into a single project? If yes, what are the parameters for aggregation and is there evidence that aggregation has successfully occurred?

(f) Does the registry administering the protocol use a fee structure that allows for aggregated entities to pay a single project fee, or does each entity need to pay a project fee?

(g) What are the verification requirements in the protocol, including recordkeeping requirements?

(h) Does the protocol require on-site verification? If yes, does the protocol require 100% on-site verification, or does the protocol specify a procedure for determining an on-site verification sample group? What is required as part of the on-site verification? Does the protocol allow remote verification methods/technologies (e.g., remote sensing)?

(i) Does the protocol include a risk management approach for determining which data inputs or project sites are required for third-party verification? If yes, what does the risk management approach require?

(j) Does the protocol allow for simplified measurement, monitoring, reporting, and verification (MMRV) processes? If yes, are there requirements or restrictions for using the simplified MMRV processes?

(k) What quantification methodology(ies) does the protocol require for quantification of emissions reductions and/or removals? What scientific evidence is available to support these methodologies?

(l) For protocols where models are required to quantify emissions, is there a process for model review and approval prior to use by prospective projects? Can approved models be used by any project or are they specific to a project developer?

(m) If models are allowed for quantification of emissions reductions, are models required to have gone through scientific review, parameterization, calibration, and validation to demonstrate performance for the practices on the relevant crops and/or species in the geography of the project? Does the protocol provide clear guidance on where eligible models can be applied?

(n) What does the protocol require or allow for determining a project baseline?

(o) How does the registry administering the protocol restrict the potential double counting of credits?

(p) Does the protocol require projects to quantify and report uncertainty associated with greenhouse gas calculations?

(q) Has the protocol generated credits which were later cancelled due to issues of credit integrity or validity?

(r) For project categories where reversals (i.e., the intentional or unintentional release of sequestered carbon for which credits have been issued) are possible, does the protocol contain procedures to maintain net GHG impact?

(s) Where is information about the protocol made publicly available?

Question 6: How should USDA evaluate technical assistance providers (TAP)? What should be the minimum qualifications, certifications, and/or expertise for a TAP to qualify for listing under the Program?

Question 7: Should the qualifications and/or registration process be different for entities and individuals that seek to register as a TAP?

Questions 8: What should be the minimum qualifications and expertise for a third-party verifier to qualify for registration under the Program?

(Authority: Pub. L. 117-328, div. HH, title I, section 201)

Melissa Bailey,
Associate Administrator, Agricultural Marketing Service.

[FR Doc. 2024-11424 Filed 5-28-24; 8:45 am]

BILLING CODE P